DEPARTMENT OF AGRICULTURE

Grain Inspection, Packers and Stockyards Administration

Amendment to Certification of Central Filing System—Oklahoma

The Statewide central filing system of Oklahoma has been previously certified, pursuant to Section 1324 of the Food Security Act of 1985 on the basis of information submitted by the Oklahoma Secretary of State, for farm products produced in that State (52 FR 49056, December 29, 1987).

The certification is hereby amended on the basis of information submitted in September 1, 1999, and September 20, 1999, letters by Anita Charlson, Supervisor, Central Filing System for Agricultural Liens, to cover all farm products used or produced in farming operations, or a product of such crop or livestock in its unmanufactured state that is in the possession of a person engaged in farming operations in that State.

This is issued pursuant to authority delegated by the Secretary of Agriculture.

Authority: Sec. 1324(c)(2), Pub. L. 99-198, 99 Stat. 1535, 7 U.S.C. 1631(c)(2); 7 CFR 2.22(a)(3)(v), 2.81(a)(5), 55 FR 22795.

Dated: February 5, 2001.
David R. Shipman,
Acting Administrator, Grain Inspection, Packers and Stockyards Administration.

[FR Doc. 01-5644 Filed 3-7-01; 8:45 am]

BILLING CODE 3410-EN-U